FEDERAL COMMUNICATIONS COMMISSION

47 CFR Part 73

[DA 03-1844; MB Docket No. 03-52, RM-10657; MB Docket No. 03-53, RM-10658; MB Docket No. 03-54, RM-10659]

Radio Broadcasting Services; Dalhart, Kermit, and Leakey, TX

AGENCY: Federal Communications Commission.

ACTION: Final rule.

SUMMARY: This document grants three proposals that allot new channels to Dalhart, Kermit, and Leakey, Texas. The Audio Division, at the request of Linda Crawford, allots Channel 261C at Dalhart, Texas, as the community's second FM commercial aural transmission service. See 68 FR 12024, March 13, 2003. Channel 261C can be allotted to Dalhart in compliance with the Commission's minimum distance separation requirements with a site restriction of 38.6 kilometers (24 miles) northwest to avoid a short-spacing to the license site of Station KOMX, Channel 262C2, Pampa, Texas. The reference coordinates for Channel 261C at Dalhart are 36-14-36 North Latitude and 102-52-36 West Longitude. Filing windows for Channel 261C at Dalhart, Texas, Channel 229A at Kermit, Texas, and Channel 257A at Leakey, Texas, will not be opened at this time. Instead, the issue of opening a filing window for these channels will be addressed by the Commission in a subsequent order. See SUPPLEMENTARY INFORMATION, infra.

DATES: Effective July 14, 2003.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Notice of Proposed Rule Making, MB Docket Nos. 03-52, 03-53, 03-54, adopted May 28, 2003, and released May 30, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

The Audio Division, at the request of Al Boyd, allots Channel 229A at Kermit, Texas, as the community's second FM commercial aural transmission service. See 68 FR 12024, March 13, 2003. Channel 229A can be allotted to Kermit in compliance with the Commission's minimum distance separation requirements at city reference coordinates. The reference coordinates for Channel 229A at Kermit are 31-51-27 North Latitude and 103-05-32 West Longitude. Although concurrence has been requested for Channel 229A at Kermit, notification has not been received. If a construction permit is granted prior to the receipt of formal concurrence in the allotment by the Mexican Government, the construction permit will include the following condition: “Operation with the facilities specified for Kermit herein is subject to modification, suspension or, termination without right to hearing, if found by the Commission to be necessary in order to conform to the 1992 USA-Mexico FM Broadcast Agreement.”

The Audio Division, at the request of Katherine Pyeatt, allots Channel 257A at Leakey, Texas, as the community's fifth local aural transmission service. See 68 FR 12024, March 13, 2003. Channel 257A can be allotted to Leakey in compliance with the Commission's minimum distance separation requirements with a site restriction of 11.4 kilometers (7.1 miles) west of Leakey, Texas. The reference coordinates for Channel 257A at Leakey are 29-44-41 North Latitude and 99-52-40 West Longitude. Although concurrence has been requested for Channel 257A at Leakey, notification has not been received. If a construction permit is granted prior to the receipt of formal concurrence in the allotment by the Mexican Government, the construction permit will include the following condition: “Operation with the facilities specified for Leakey herein is subject to modification, suspension or, termination without right to hearing, if found by the Commission to be necessary in order to conform to the 1992 USA-Mexico FM Broadcast Agreement.”

List of Subjects in 47 CFR Part 73

Radio, Radio broadcasting.

Accordingly, for the reasons set out in the preamble, 47 CFR Part 73 is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 261C at Dalhart; by adding Channel 229A at Kermit; and by adding Channel 257A at Leakey.

Federal Communications Commission.
John A. Karousos,
Assistant Chief, Audio Division, Media Bureau.

[FR Doc. 03-15068 Filed 6-13-03; 8:45 am]

BILLING CODE 6712-01-P